DEPARTMENT OF HOMELAND SECURITY

Federal Emergency Management Agency

44 CFR Part 67

[Docket ID FEMA-2010-0003; Internal Agency Docket No. FEMA-B-1097]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 23, 2010.

ADDRESSES: The corresponding preliminary Flood Insurance Rate Map (FIRM) for the proposed BFEs for each community is available for inspection at the community's map repository. The respective addresses are listed in the table below.

You may submit comments, identified by Docket No. FEMA-B-1097, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Hampton, Virginia
Virginia | City of Hampton | Newmarket Creek | Approximately 275 feet downstream of Big Bethel Road | +8 | +9
|  |  | Approximately 20 feet upstream of the confluence with Newmarket Creek Tributary | None | +22
| City of Hampton | Newmarket Creek Tributary | At the confluence with Newmarket Creek. | None | +22
|  |  | Approximately 30 feet downstream of I-64 | None | +22
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Hampton
Maps are available for inspection at the Central Permits Office, 22 Lincoln Avenue, Hampton, VA 23669.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Rio Grande County, Colorado, and Incorporated Areas
Willow Creek | At the confluence with the Rio Grande, approximately 400 feet north of U.S. Route 160 | None | +8,154 | Unincorporated Areas of Rio Grande County.
| Approximately 1.1 mile south of East Lake Court | None | +8,766
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Rio Grande County
Maps are available for inspection at 925 6th Street, Del Norte, CO 81132.
Washington County, Florida, and Incorporated Areas
Alligator Creek | At the upstream side of County Road 166 | None | +76 | Unincorporated Areas of Washington County.
| Approximately 3.2 miles upstream of County Road 166 | None | +81
Bear Bay Creek | At the confluence with Pine Log Creek | None | +44 | Unincorporated Areas of Washington County.
| Approximately 3.9 miles upstream of the confluence with Pine Log Creek | None | +76
Botheration Creek | At the confluence with Pine Log Creek | None | +32 | Unincorporated Areas of Washington County.
| Approximately 200 feet downstream of the county boundary | None | +90
Brock Mill Branch | At the confluence with Jones Rice Mill Branch | None | +54 | Unincorporated Areas of Washington County.
| Approximately 100 feet downstream of State Road 77 | None | +109
Flat Creek | At the confluence with Hard Labor Creek | None | +50 | Unincorporated Areas of Washington County.
| Approximately 9.7 miles upstream of the confluence with Hard Labor Creek | None | +160
Hard Labor Creek | At State Road 277 | None | +43 | Unincorporated Areas of Washington County.
| Approximately 15.6 miles upstream of the confluence with Holmes Creek | None | +114
Helms Branch | At the confluence with Alligator Creek | None | +78 | City of Chipley, Unincorporated Areas of Washington County.
| Approximately 3.2 miles upstream of the confluence with Alligator Creek | None | +89
Johnson Branch | At Roche Avenue | None | +37 | City of Vernon, Unincorporated Areas of Washington County.
| Approximately 3.8 miles upstream of the confluence with Holmes Creek | None | +101
Jones Rice Mill Branch | At the upstream side of State Road 277 | None | +54 | Unincorporated Areas of Washington County.
| Approximately 5.9 miles upstream of the confluence with Holmes Creek | None | +146
Pine Log Creek | Approximately 1.9 mile upstream of the confluence with the East River | None | +21 | Town of Ebro, Unincorporated Areas of Washington County.
| At the confluence with Bear Bay Creek | None | +44
Piney Branch | At State Road 77 | None | +40 | Unincorporated Areas of Washington County.
| Approximately 6.6 miles upstream of the confluence with Holmes Creek | None | +193
Pippen Mill Creek | At Roche Avenue | None | +37 | City of Vernon, Unincorporated Areas of Washington County.
| Approximately 5.4 miles upstream of the confluence with Holmes Creek | None | +95
Reedy Creek | At the confluence with Hard Labor Creek | None | +59 | Town of Wausau, Unincorporated Areas of Washington County.
| Approximately 3.8 miles upstream of the confluence with Hard Labor Creek | None | +105
Unnamed Tributary 1 to Alligator Creek | Approximately 765 feet upstream of State Road 277 | None | +68 | Unincorporated Areas of Washington County.
| Approximately 1.4 mile upstream of State Road 277 | None | +121
Unnamed Tributary 2 to Alligator Creek | Approximately 0.4 mile upstream of the confluence with Alligator Creek | None | +72 | City of Chipley, Unincorporated Areas of Washington County.
| Approximately 2.2 miles upstream of the confluence with Alligator Creek | None | +111
Unnamed Tributary 3 to Alligator Creek | At the confluence with Alligator Creek | None | +76 | City of Chipley, Unincorporated Areas of Washington County.
| Approximately 2 miles upstream of the confluence with Alligator Creek | None | +102
Unnamed Tributary to Helms Branch | Approximately 300 feet downstream of Brickyard Road | None | +117 | City of Chipley, Unincorporated Areas of Washington County.
| Approximately 0.6 mile upstream of Brickyard Road | None | +131
Unnamed Tributary to Holmes Creek | Approximately 0.4 mile upstream of the confluence with Holmes Creek | None | +36 | City of Vernon, Unincorporated Areas of Washington County.
| Approximately 2.2 miles upstream of the confluence with Holmes Creek | None | +52
Unnamed Tributary to Holmes Creek East Branch | At the confluence with Unnamed Tributary to Holmes Creek | None | +42 | City of Vernon, Unincorporated Areas of Washington County.
| Approximately 1.3 mile upstream of the confluence with Unnamed Tributary to Holmes Creek | None | +55
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Chipley
Maps are available for inspection at City Hall, 1442 Jackson Avenue, Chipley, FL 32428.
City of Vernon
Maps are available for inspection at 2808 Yellow Jacket Drive, Vernon, FL 32462.
Town of Ebro
Maps are available for inspection at the Town Hall, 6629 Dog Track Road, Ebro, FL 32437.
Town of Wausau
Maps are available for inspection at the Town Hall, 1607 2nd Avenue, Wausau, FL 32463.
Unincorporated Areas of Washington County
Maps are available for inspection at the Washington County Clerk's Office, 1293 Jackson Avenue, Chipley, FL 32428.
Butler County, Iowa, and Incorporated Areas
Beaver Creek | Approximately 1,800 feet downstream of Utica Avenue | None | +896 | Unincorporated Areas of Butler County.
| Approximately 1.2 mile upstream of Utica Avenue | None | +901
Shell Rock River | Approximately 1.1 mile downstream of Cherry Street | None | +899 | Unincorporated Areas of Butler County.
| Approximately 0.9 mile upstream of the dam | None | +909
Shell Rock River | On the downstream side of Iowa Northern Railway | None | +923 | Unincorporated Areas of Butler County.
| Approximately 1,000 feet upstream of Chicago and North Western Railroad | None | +931
Shell Rock River | Approximately 0.7 mile downstream of Traer Street | None | +955 | Unincorporated Areas of Butler County.
| Approximately 700 feet upstream of State Highway 14 | None | +960
Shell Rock River Overflow Channel 2 | Approximately 900 feet downstream of Main Street | None | +955 | Unincorporated Areas of Butler County.
| Approximately 400 feet upstream of Main Street | None | +958
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Butler County
Maps are available for inspection at the Butler County Courthouse, 428 6th Street, Allison, IA 50602.
Chesterfield County, Virginia, and Incorporated Areas
Appomattox River | Approximately 0.9 mile upstream of the confluence with Swift Creek | None | *9 | Unincorporated Areas of Chesterfield County.
| At the Chesterfield County/City of Colonial Heights/City of Petersburg boundary | None | *20
Blackman Creek | At the confluence with Deep Creek and Horsepen Creek | None | *197 | Unincorporated Areas of Chesterfield County.
| Approximately 3.7 miles upstream of Otterdale Road (SR-667) | None | *287
Crooked Branch | On the upstream side of State Highway 288 | *127 | *131 | Unincorporated Areas of Chesterfield County.
| At the upstream side of Centralia Road (SR-145) | *147 | *148
Deep Creek | At the confluence with the Swift Creek Reservoir | None | *182 | Unincorporated Areas of Chesterfield County.
| At the confluence with Blackman Creek and Horsepen Creek | None | *197
Fuqua Branch | At the confluence with Dry Creek | None | *185 | Unincorporated Areas of Chesterfield County.
| Approximately 2.2 miles upstream of the Ashbrook Lake Dam | None | *261
Great Branch | Approximately 500 feet upstream of Hamlin Creek Parkway | *102 | *103 | Unincorporated Areas of Chesterfield County.
| Approximately 250 feet downstream of Chalkley Road | *139 | *141
Great Branch Tributary | At the confluence with Great Branch | *126 | *129 | Unincorporated Areas of Chesterfield County.
| Approximately 1,000 feet downstream of Ecoff Avenue | *127 | *129
Horsepen Creek | At the confluence with Blackman Creek and Deep Creek | None | *197 | Unincorporated Areas of Chesterfield County.
| Approximately 3.0 miles upstream of the confluence with Blackman Creek and Deep Creek | None | *257
Johnsons Creek | Approximately 800 feet downstream of Spruce Avenue | *18 | *19 | Unincorporated Areas of Chesterfield County.
| Approximately 0.8 mile upstream of Old Bermuda Hundred Road | None | *128
Johnsons Creek Tributary | Approximately 320 feet upstream of East Hundred Road (SR-10) | None | *57 | Unincorporated Areas of Chesterfield County.
| Approximately 100 feet upstream of Bermuda Hundred Road | None | *63
Lake Chesdin | Entire shoreline in Chesterfield County | None | *163 | Unincorporated Areas of Chesterfield County.
Little Tomahawk Creek | At the confluence with the Swift Creek Reservoir | *183 | *184 | Unincorporated Areas of Chesterfield County.
| Approximately 1,800 feet upstream of the confluence with the Swift Creek Reservoir | *183 | *184
Proctors Creek | On the upstream side of the railroad | *25 | *27 | Unincorporated Areas of Chesterfield County.
| Approximately 850 feet upstream of the confluence with Tributary 2 to Proctors Creek | *136 | *137
Swift Creek | At Woolridge Road (SR-668) | None | *182 | Unincorporated Areas of Chesterfield County.
| At the Powhatan County boundary | None | *227
Swift Creek Reservoir | Between Swift Creek Reservoir Dam and Woolridge Road (SR-668) | None | *182 | Unincorporated Areas of Chesterfield County.
| Between Genito Road and the confluence with Little Tomahawk Creek and Tomahawk Creek | None | *184
Tomahawk Creek | At the confluence with the Swift Creek Reservoir | *183 | *184 | Unincorporated Areas of Chesterfield County.
| Approximately 1,500 feet upstream of the confluence with the Swift Creek Reservoir | *183 | *184
Turkey Creek | At the confluence with Swift Creek | None | *194 | Unincorporated Areas of Chesterfield County.
| Approximately 1.7 miles upstream of Mount Herman Road (SR-606) | None | *258
Winterpock Creek | At the confluence with Lake Chesdin | None | *163 | Unincorporated Areas of Chesterfield County.
| Approximately 450 feet upstream of Beach Road (SR-655) | None | *241
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Chesterfield County
Maps are available for inspection at 9800 Government Center Parkway, Chesterfield, VA 23832.

(Catalog of Federal Domestic Assistance No. 97.022, “Flood Insurance.”)

Dated: May 5, 2010.
Sandra K. Knight,
Deputy Federal Insurance and Mitigation Administrator, Mitigation, Department of Homeland Security, Federal Emergency Management Agency.

[FR Doc. 2010-12481 Filed 5-24-10; 8:45 am]

BILLING CODE 9110-12-P